NUCLEAR REGULATORY COMMISSION

[License No. XW008/05; Docket No. 11005323; Docket ID NRC-2017-0156]

Diversified Scientific Services, Inc.

AGENCY: Nuclear Regulatory Commission.

ACTION: Export license amendment/renewal application; opportunity to comment, request a hearing, and petition for leave to intervene.

SUMMARY: The U.S. Nuclear Regulatory Commission (NRC) received and is considering issuing an export license amendment/renewal (XW008/05), requested by Diversified Scientific Services, Inc. (DSSI) by application submitted on March 24, 2017. The request seeks the NRC's approval for renewal and amendment of an existing license authorizing the export of radioactive waste to Canada.

DATES: Submit comments by August 10, 2017. Requests for a hearing or a petition for leave to intervene must be filed by August 10, 2017.

ADDRESSES: You may submit comments by any of the following methods:

• Federal Rulemaking Web site: Go to http://www.regulations.gov and search for Docket ID NRC-2017-0156. Address questions about NRC dockets to Carol Gallagher; telephone: 301-415-3463; email: Carol.Gallagher@nrc.gov. For technical questions contact the individual listed in the FOR FURTHER INFORMATION CONTACT section of this document.

• Email comments to: Hearingdocket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Andrea Jones, Office of International Programs, telephone: 301-287-9072, email: Andrea.Jones2@nrc.gov; U.S. Nuclear Regulatory Commission, Washington, DC 20555-0001.

SUPPLEMENTARY INFORMATION:

I. Obtaining Information and Submitting Comments

A. Obtaining Information

You may obtain publicly-available information related to this export license application (amendment/renewal) from DSSI action by the following methods:

• Federal rulemaking Web site: Go to http://www.regulations.gov and search for Docket ID NRC-2017-0156.

• NRC's public Web site: Go to http://www.nrc.gov and search for XW008/05, Docket No. 11005323, Docket ID NRC-2017-0156, or ML17089A176.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The export license application (amendment/renewal) from DSSI is available in ADAMS under Accession No. ML17089A176 and additional information is available in ADAMS under XW008/05 and under Docket No. 11005323.

• NRC's PDR: You may examine and purchase copies of public documents at the NRC's PDR, Room O1-F21, One White Flint North, 11555 Rockville Pike, Rockville, Maryland 20852.

B. Submitting Comments

Please include Docket ID NRC-2017-0156 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

In accordance with 10 CFR 110.70(b) the NRC is noticing the receipt of an export license amendment application submitted by Diversified Scientific Services, Inc., on March 29, 2017, for the export of Canadian-origin radioactive waste from the State of Tennessee to Canada. The existing license authorizes the export of up to 420 kilograms of radioactive waste. The amendment/renewal requests an extension of the license for five years, a change to the name of an ultimate consignee, and other minor revisions to the existing license. The NRC is noticing the request to amend/renew the license to export radioactive waste; opening the opportunity for public comment; and opening the opportunity to file a request for a hearing or petition for leave to intervene for 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520. Hearing requests and intervention petitions must include the information specified in 10 CFR 110.82(b).

A request for a hearing or petition for leave to intervene may be filed with the NRC electronically in accordance with NRC's E-Filing rule promulgated in August 2007 (72 FR 49139; August 28, 2007). Information about filing electronically is available on the NRC's public Web site at http://www.nrc.gov/site-help/e-submittals.html. To ensure timely electronic filing, at least 5 days prior to the filing deadline, the petitioner/requestor should contact the Office of the Secretary by email at hearingdocket@nrc.gov, or by calling 301-415-1677, to request a digital ID certificate and allow for the creation of an electronic docket.

The information concerning this application for an export license amendment/renewal follows.

NRC Export License Amendment Application
[Description of material]
Name of applicant date of application date received application No. docket No. ADAMS accession No. | Material type | Total quantity | End use | Country of destination
Diversified Scientific Services, Inc. (DSSI), March 24, 2017, March 29, 2017, XW008/05, 11005323, ML17089A176 | Class A, B, or C radioactive waste | 420 kilograms (no change) | Amend to: (1) extend the license for five years (from 3/31/2017 to 3/31/2022); (2) change the license point of contact; (3) change the name of ultimate foreign consignee, Atomic Energy of Canada, Limited, to Canadian Nuclear Laboratories; (3) remove reference to Waste Classification as defined in Title 10 of the Code of Federal Regulations (CFR) 61.55, and reference to Table A2 values of 49 CFR 173.435 from the waste description; (4) remove previous references to Import License IW012/05; and (5) allow for the export of Class A, B, and/or C radioactive waste | Canada (no change).

For The Nuclear Regulatory Commission.
Dated this 3rd day of July 2017 at Rockville, Maryland.
Peter Habighorst,
Acting Deputy Director, Office of International Programs.

[FR Doc. 2017-14485 Filed 7-10-17; 8:45 am]

BILLING CODE 7590-01-P